DEPARTMENT OF TRANSPORTATION

Federal Aviation Administration

14 CFR Part 39

[Docket No. FAA-2010-0702; Directorate Identifier 2010-NM-144-AD; Amendment 39-16380; AD 2009-15-16 R1]

RIN 2120-AA64

Airworthiness Directives; McDonnell Douglas Corporation Model DC-9-10 Series Airplanes, DC-9-30 Series Airplanes, DC-9-81 (MD-81) Airplanes, DC-9-82 (MD-82) Airplanes, DC-9-83 (MD-83) Airplanes, DC-9-87 (MD-87) Airplanes, MD-88 Airplanes, and MD-90-30 Airplanes, Equipped With Flight Deck Doors Installed in Accordance With Supplemental Type Certificate ST02463AT

AGENCY: Federal Aviation Administration (FAA), Department of Transportation (DOT).

ACTION: Final rule; request for comments.

SUMMARY: The FAA is revising an existing airworthiness directive (AD), which applies to all McDonnell Douglas Model DC-9-10 series airplanes, DC-9-30 series airplanes, DC-9-81 (MD-81) airplanes, DC-9-82 (MD-82) airplanes, DC-9-83 (MD-83) airplanes, DC-9-87 (MD-87) airplanes, MD-88 airplanes, and MD-90-30 airplanes. That AD currently requires modifying the flight deck door. This AD revises the applicability by removing certain airplanes. This AD was prompted by a report indicating that certain equipment of the flight deck door is defective. We are issuing this AD to prevent failure of this equipment, which could jeopardize flight safety.

DATES: This AD is effective August 5, 2010, to all persons except those persons to whom it was made immediately effective by AD 2009-15-16, issued July 15, 2009, which contained the requirements of this amendment.

The Director of the Federal Register approved the incorporation by reference of a certain publication listed in the AD as of August 5, 2010.

On July 6, 2010 (75 FR 38017, July 1, 2010), the Director of the Federal Register approved the incorporation by reference of a certain other publication listed in the AD.

We must receive any comments on this AD by September 20, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact TIMCO Aviation Services, 623 Radar Road, Greensboro, North Carolina 27410-6221; telephone 336-668-4410, extension 3063; fax 336-662-8330; Internet: http://www.timco.aero.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Linda Haynes, Aerospace Engineer, COS—Certificate Management Branch, ACE-102A, FAA, Atlanta Aircraft Certification Office, 1701 Columbia Avenue, College Park, GA 30337; telephone 404-474-5525; fax 404-474-5606.

SUPPLEMENTARY INFORMATION:

Discussion

On June 18, 2010, we issued AD 2009-15-16, Amendment 39-16345 (75 FR 38017, July 1, 2010). That AD applies to all McDonnell Douglas Corporation Model DC-9-10 series airplanes, DC-9-30 series airplanes, DC-9-81 (MD-81) airplanes, DC-9-82 (MD-82) airplanes, DC-9-83 (MD-83) airplanes, DC-9-87 (MD-87) airplanes, MD-88 airplanes, and MD-90-30 airplanes. That AD requires modifying the flight deck door. That AD was prompted by a report indicating that certain equipment of the flight deck door is defective. The actions specified in that AD are intended to prevent failure of this equipment, which could jeopardize flight safety.

Actions Since AD Was Issued

Since we issued that AD, we have learned that certain airplanes were incorrectly included in the applicability. The only airplanes subject to the identified unsafe condition are those equipped with flight deck doors installed in accordance with Supplemental Type Certificate (STC) ST02463AT.

Relevant Service Information

AD 2009-15-16 referred to TIMCO Service Bulletin TSB-88-52-045, Revision E, dated November 6, 2008, as the appropriate source of service information for the required modification. TIMCO has since revised the service bulletin. Revision G, dated December 8, 2009, changes Part II., “Approval Basis,” by referring to STC ST02463AT. The procedures specified in Revision G of this service bulletin are unchanged from those in Revision E.

FAA's Determination and Requirements of this AD

The unsafe condition described previously is likely to exist or develop on other airplanes of these same type designs. For this reason, we are issuing this AD to revise AD 2009-15-16. This new AD retains the requirements of the existing AD, and includes the following changes:

• This new AD revises the applicability by removing airplanes that do not have flight deck doors installed in accordance with STC ST02463AT.

• This new AD also refers to TIMCO Service Bulletin TSB-88-52-045, Revision G, dated December 8, 2009, as the appropriate source of service information for the required modification.

• This new AD adds new paragraph (h) in this AD to give credit for actions done before the effective date in accordance with TIMCO Service Bulletin TSB-88-52-045, Revision F, dated November 2, 2009.

FAA's Justification and Determination of the Effective Date

Certain defective equipment of the flight deck door could result in failure of the equipment and jeopardize flight safety. Because of our requirement to promote safe flight of civil aircraft and thus the critical need to ensure the proper functioning of the flight crew door, as well as the short compliance time involved with this action and the need to advise operators of the reduced applicability, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2010-0702; Directorate Identifier 2010-NM-144-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-16345 (75 FR 38017, July 1, 2010) and adding the following new AD:

2009-15-16 R1 McDonnell Douglas Corporation: Amendment 39-16380. Docket No. FAA-2010-0702; Directorate Identifier 2010-NM-144-AD.

Effective Date

(a) This airworthiness directive (AD) is effective August 5, 2010, to all persons except those persons to whom it was made immediately effective by AD 2009-15-16, issued July 15, 2009, which contained the requirements of this amendment.

Affected ADs

(b) This AD revises AD 2009-15-16, Amendment 39-16345.

Applicability

(c) This AD applies to McDonnell Douglas Corporation Model DC-9-11, DC-9-12, DC-9-13, DC-9-14, DC-9-15, and DC-9-15F airplanes, Model DC-9-31, DC-9-32, DC-9-32 (VC-9C), DC-9-32F, DC-9-33F, DC-9-34, DC-9-34F, and DC-9-32F (C-9A, C-9B) airplanes, Model DC-9-81 (MD-81) airplanes, Model DC-9-82 (MD-82) airplanes, Model DC-9-83 (MD-83) airplanes, Model DC-9-87 (MD-87) airplanes, Model MD-88 airplanes, and Model MD-90-30 airplanes; certificated in any category; equipped with flight deck doors installed in accordance with Supplemental Type Certificate ST02463AT.

Subject

(d) Air Transport Association (ATA) of America Code 52: Doors.

Unsafe Condition

(e) This AD was prompted by a report indicating that the current design of certain equipment of the flight deck door is defective. The Federal Aviation Administration is issuing this AD to prevent the failure of this equipment, which could jeopardize flight safety.

Compliance

(f) You are responsible for having the actions required by this AD performed within the compliance times specified, unless the actions have already been done.

Installation

(g) Within 30 days after July 6, 2010 (the effective date of AD 2009-15-16), modify the flight deck door, in accordance with TIMCO Service Bulletin TSB-88-52-045, Revision E, dated November 6, 2008; or Revision G, dated December 8, 2009.

Actions Accomplished According to Previous Issue of Service Bulletin

(h) Modification of the flight deck door before the effective date of this AD in accordance with TIMCO Service Bulletin TSB-88-52-045, Revision F, dated November 2, 2009, is acceptable for compliance with the corresponding requirements of this AD.

Alternative Methods of Compliance (AMOCs)

(i)(1) The Manager, Atlanta Aircraft Certification Office (ACO), FAA, has the authority to approve AMOCs for this AD, if requested using the procedures found in 14 CFR 39.19. Send information to ATTN: Linda Haynes, Aerospace Engineer, COS—Certificate Management Branch, ACE-102A, FAA, Atlanta Aircraft Certification Office, 1701 Columbia Avenue, College Park, GA 30337; telephone 404-474-5525; fax 404-474-5606.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically refer to this AD.

(3) AMOCS previously in accordance with AD 2009-15-16, amendment 39-16345, are approved as AMOCs for the corresponding provisions of this AD.

Material Incorporated by Reference

(j) You must use TIMCO Service Bulletin TSB-88-52-045, Revision E, dated November 6, 2008; or TIMCO Service Bulletin TSB-88-52-045, Revision G, dated December 8, 2009; to do the actions required by this AD, unless the AD specifies otherwise.

(1) The Director of the Federal Register approved the incorporation by reference of TIMCO Service Bulletin TSB-88-52-045, Revision G, dated December 8, 2009, under 5 U.S.C. 552(a) and 1 CFR part 51.

(2) The Director of the Federal Register previously approved the incorporation by reference of TIMCO Service Bulletin TSB-88-52-045, Revision E, dated November 6, 2008, on July 6, 2010 (75 FR 38017, July 1, 2010).

(3) For service information identified in this AD, contact TIMCO Aviation Services, 815 Radar Road, Greensboro, North Carolina 27410-6221; telephone 336-668-4410, extension 3063; fax 336-662-8330; Internet: http://www.timco.aero.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at NARA, call 202-741-6030, or go to http://www.archives.gov/federal_register/code_of_federal_regulations/ibr_locations.html.

Issued in Renton, Washington, on July 16, 2010.
Ali Bahrami,
Manager, Transport Airplane Directorate, Aircraft Certification Service.

[FR Doc. 2010-18620 Filed 8-4-10; 8:45 am]

BILLING CODE 4910-13-P